GENERAL SERVICES ADMINISTRATION

[Notice-PBS-2021-02; Docket No. 2021-0002; Sequence No. 10]

Notice of Intent To Prepare an Environmental Assessment for the Calexico West Land Port of Entry Temporary Pedestrian Process Facility, Calexico, CA

AGENCY: Public Buildings Service (PBS), General Services Administration (GSA).

ACTION: Notice.

SUMMARY: Pursuant to the requirements of the National Environmental Policy Act of 1969 (NEPA), the Council on Environmental Quality Regulations, and the GSA PBS NEPA Desk Guide, GSA is issuing this notice to advise the public that an Environmental Assessment(EA) will be prepared for the Temporary Pedestrian Process Facility at the Calexico West Land Port of Entry, Calexico, CA (Project).

DATES: Agencies and the public are encouraged to provide written comments regarding the scope of the EA. Comments must be received by July 30th.

ADDRESSES: Please submit written comments by either of the following methods:

• Email: osmahn.kadri@gsa.gov.

• Postal Mail/Commercial Delivery: ATTN: Ms. Bianca Rivera, 355 South Euclid Avenue, Suite 107, Tucson, AZ 85719.

FOR FURTHER INFORMATION CONTACT: Mr. Osmahn A. Kadri, NEPA Program Manager, General Services Administration, Pacific Rim Region, at 415-522-3617 or email osmahn.kadri@gsa.gov.

SUPPLEMENTARY INFORMATION:

Background

GSA intends to prepare an EA to analyze the potential impacts resulting from proposed construction of a temporary pedestrian processing facility to be used by the United States Customs and Border Protection.

The Project is located adjacent to the Historic Customs House at 340 East 1st Street, Calexico, California. The Project is proposed to provide a temporary pedestrian processing facility for use during the demolition of existing structures and construction of the new processing building while ensuring continued services to those utilizing the international crossing between the United States of American and Mexico.

The temporary facility is anticipated to be constructed on Heffernan Road, south of East 1st street, to the west of the Historic Customs House. The facility will require the acquisition of Heffernan Road, to the south of East 1st Street. The building will be approximately 8,804 square feet and include a fire lane to the west, pedestrian ramps leading to/from the building, and pedestrian pick-up and drop-off areas at the north side of the building. The interior building will include wait areas, administrative offices, property storage interview rooms, inspection areas, processing areas, and restrooms.

Alternatives Under Consideration

The EA will consider one Action Alternative (the Proposed Action) and the No Action Alternative. The Action Alternative would consist of the construction of the processing facility and associated infrastructure. The building would be constructed on a portion of Heffernan Avenue and the parking area to the west of the Customs House. Since the facility is temporary, there would be no change in personnel staffing at this port of entry. Construction is likely to impact parking and loading/unloading merchandise for the retail facility to the west of the proposed facility, as well as traffic flow along East 1st Street during construction.

Under the No Action Alternative, construction of the temporary facility would not occur.

Scoping Process

Scoping will be accomplished through public notifications in the Calexico Chronicle, social media announcements, and direct mail correspondence to appropriate federal, state, and local agencies; surrounding property owners; and private organizations and citizens who have previously expressed or are known to have an interest in the Project. The virtual scoping meeting will be held on July 13th, at 4:30 p.m., Pacific Standard Time at: https://teams.microsoft.com/l/meetup-join/19%3ameeting_NDIwNzMyZTEtMDRhYy00NGI5LWJkNjEtODkxYTJhNjU2NWIx%40thread.v2/0?context=%7b%22Tid%22%3a%228aec2bf0-04af-4841-bcf6-bac6a58dd4ef%22%2c%22Oid%22%3a%221894920d-2cd7-4a1a-aa78-0ebeddc5bdf6%22%7d.

The primary purpose of the scoping process is for the public to assist GSA in determining the scope and content of the environmental analysis.

Russell Larson,
Director, Portfolio Management Division, Pacific Rim Region, Public Buildings Service.

[FR Doc. 2021-13828 Filed 6-28-21; 8:45 am]

BILLING CODE 6820-YF-P